DEPARTMENT OF COMMERCE

National Oceanic and Atmospheric Administration

DEPARTMENT OF THE INTERIOR

Fish and Wildlife Service

[I.D. 052102B]

Availability of the Simpson Resource Company Aquatic Habitat Conservation Plan/Candidate Conservation Agreement with Assurances and Draft Environmental Impact Statement, Del Norte and Humboldt Counties, California

AGENCY: National Marine Fisheries Service (NMFS), National Oceanic and Atmospheric Administration (NOAA), Commerce; Fish and Wildlife Service (FWS), Interior.

ACTION: Notice of availability.

SUMMARY: Simpson Resource Company (Simpson), has submitted applications to NMFS and FWS (together, the Services) for an incidental take permit and an enhancement of survival permit (together, Permits) pursuant to the Endangered Species Act of 1973, as amended (ESA).Simpson has also prepared an Aquatic Habitat Conservation Plan/Candidate Conservation Agreement with Assurances (Plan) and a proposed Implementation Agreement.The Services also announce the availability of a draft Environmental Impact Statement (Draft EIS) for the Permit applications.The Permit applications are related to forest management and timber harvest in Del Norte and Humboldt Counties, CA, where Simpson owns lands or harvesting rights.The duration of the proposed Permits and Plan is 50 years.

The Services are furnishing this notice in order to allow other agencies and the public an opportunity to review and comment on these documents.All comments received will become part of the public record and will be available for review pursuant to section 10(c) of the ESA.

DATES: Public meetings will be held on September 4, 2002, from 1 p.m. to 3 p.m.and 5 p.m. to 7 p.m. in Eureka, CA.Written comments on the Permit application, Draft EIS, Plan, and Implementation Agreement must be received on or before November 14, 2002.

ADDRESSES: The public meetings will be held at the Red Lion Inn, 1929 4th Street, Eureka, CA 95501.Oral and written comments will be received at the meetings.Written comments may also be directed to Ms. Amedee Brickey (FWS) or Mr. James F. Bond (NMFS), both located at 1655 Heindon Road, Arcata, CA 95521 or sent by facsimile to (707) 822-8411.Requests for documents should be made by calling FWS at (707) 822-7201.Hardbound copies are also available for viewing, or partial or complete duplication, at the following libraries:(1) Eureka Main Library, 1313 3rd Street, Eureka, CA; Telephone:(707) 269-1900; (2) Fortuna Branch, Humboldt County Library, 775 14th Street, Fortuna, CA; Telephone:(707) 725-3460; (3) Arcata Branch, Humboldt County Library, 500 7th Street, Arcata, CA; Telephone:(707) 822-5924; and (4) Crescent City Library, 190 Price Mall, Crescent City, CA; Telephone:(707) 464-9793.The documents are also available electronically on the Internet at http://swr.nmfs.noaa.gov.

FOR FURTHER INFORMATION CONTACT: Ms. Amedee Brickey (FWS) at 707-822-7201 or Mr. James F. Bond (NMFS), at (707) 825-5176.

SUPPLEMENTARY INFORMATION:

Background

Section 9 of the ESA and Federal regulations prohibit the taking of an animal species listed as endangered or threatened.The term take is defined under the ESA to mean harass, harm, pursue, hunt, shoot, wound, kill, trap, capture, or collect, or to attempt to engage in any such conduct.Harm has been defined by FWS to include “significant habitat modification or degradation where it actually kills or injures wildlife by significantly impairing essential behavioral patterns, including breeding, feeding, and sheltering.”Consistent with FWS, NMFS has defined harm as an act which actually kills or injures fish or wildlife, and emphasizes that such acts may include “significant habitat modification or degradation which actually kills or injures fish or wildlife by significantly impairing essential behavioral patterns, including breeding, spawning, rearing, migrating, feeding, or sheltering.”

The Services may issue two types of permits under section 10(a) of the ESA to non-federal landowners to take listed species, under certain terms and conditions.FWS's regulations governing permits for threatened and endangered species are promulgated in 50 CFR 17.32. and 50 CFR 17.22; NMFS' regulations governing permits for threatened and endangered species are promulgated at 50 CFR 222.307.The first of these two types of permits is the Incidental Take Permit, which is authorized under section 10(a)(1)(B) of the ESA.A proposed Incidental Take Permit must be accompanied by a Habitat Conservation Plan (HCP) that shows: (1) the taking will be incidental; (2) the applicants will, to the maximum extent practicable, minimize and mitigate the impacts of such taking; (3) the applicants will ensure that adequate funding for the conservation plan will be provided; (4) the taking will not appreciably reduce the likelihood of survival and recovery of the species in the wild; (5) such other measures the Services may require as necessary or appropriate for the purposes of the HCP.HCPs can address both listed and currently unlisted species.

The second of these two types of permits is the Enhancement of Survival Permit, which is authorized under section 10 (a)(1)(A) of the ESA.To implement this provision of the ESA, the Services issued a joint policy for developing Candidate Conservation Agreements with Assurances (CCAA) for unlisted species on June 17, 1999 (64 FR 32726).The FWS simultaneously issued regulations for implementing CCAAs on June 17, 1999 (64 FR 32706).A correction to the FWS final rule was announced on September 30, 1999 (64 FR 52676).CCAAs are intended to help conserve proposed and candidate species, and species likely to become candidates, by giving non-federal landowners incentives to implement conservation measures for declining species.The primary incentive for CCAAs is an assurance that no further land, water, or resource use restrictions would be imposed should the species later become listed under the ESA.Prior to the Services entering into the CCAA and issuing a permit, the Services must determine that the benefits of the conservation measures to be implemented, when combined with the benefits that would be achieved if it is assumed that conservation measures were also to be implemented on other necessary properties, would preclude any need to list the covered species.

Though the names of these two permitting tools are different, the goals are similar, and the strategies for achieving those goals can overlap.Conservation strategies can, therefore, be developed to fulfill CCAA and HCP requirements in a single conservation plan.

Current Proposal

Simpson owns and manages approximately 457,000 acres of commercial timberland in Del Norte, Humboldt, and Trinity counties, CA.Approximately 413,000 acres of this property occurs in watersheds with habitat important to the conservation of salmonid species in the North Coast region of California, including, but not limited to, the Winchuck River, Smith River, Klamath River and its tributaries, Redwood Creek, Little River, Mad River, tributaries to Humboldt Bay, Eel River, the Van Duzen River and others.Some forest management and timber harvest activities have the potential to impact species subject to protection under the ESA.

Simpson has developed a Plan, with technical assistance from the Services, to obtain Permits for their activities on approximately 413,000 acres of their commerical timberlands.Activities proposed for Permit coverage include the following: all aspects of timber harvest; forest product transportation; road and landing construction, use, maintenance and abandonment; site preparation; tree planting; silvicultural thinning; controlled burns; rock quarries and borrow pit operations; aquatic habitat restoration; and the management, harvest, and sale of minor forest products.The Permits and Plan would also cover certain monitoring activities and related scientific experiments in the Plan area.The duration of the proposed Permits and Plan is 50 years.

The proposed Incidental Take Permit would authorize the take of fish in three Evolutionarily Significant Units (ESUs) that are listed as threatened, incidental to otherwise lawful management activities: California Coastal chinook salmon (Oncorhynchus tshawytscha) ESU, Southern Oregon/Northern California Coast coho salmon (O. kisutch) ESU, and Northern California steelhead (O. mykiss) ESU.Simpson is also seeking coverage of fish in three other unlisted ESUs (Klamath Mountains Province steelhead ESU, Upper Klamath/Trinity Rivers chinook salmon ESU , Southern Oregon and Northern California Coastal chinook salmon ESU) under specific provisions of the Permit, should these species be listed in the future.

The proposed Enhancement of Survival Permit would address coastal cutthroat trout (O. clarki clarki), rainbow trout (O. mykiss), southern torrent salamander (Rhyacotriton variegatus), and tailed frog (Ascaphus truei) under specific provisions of the Permit, should these species be listed in the future.

The Services formally initiated an environmental review of the project through a Notice of Intent to prepare an EIS in the Federal Register on July 11, 2000 (65 FR 42674).The project proponent was Simpson Timber Company.In October of 2001, Simpson Timber Company announced that it planned to establish a separate company called Simpson Resource Company that would include all of the company's timberlands and directly related operations.The timberlands were transferred to Simpson Resource Company in December of 2001, and Simpson Resource Company is now the project proponent.The Notice of Intent also announced a 30-day public scoping period, during which other agencies, tribes, and the public were invited to provide comments and suggestions regarding issues and alternatives to be included in the EIS.Following this scoping period a Draft EIS was prepared which considers the No Action Alternative, the Proposed Action, and three additional action alternatives.

Under the No Action Alternative, Permits would not be issued and Simpson would remain subject to the prohibition on unauthorized taking of listed species.Under the Proposed Action, the Services would issue the Permits and Simpson would implement their proposed Plan on 413,000 acres of Simpson's California timberlands.Under a Listed Species Only Alternative (Alternative A), the Services would issue Permits only for currently listed species.The Simplified Prescriptions Alternative (Alternative B) would provide coverage for the same species as the Proposed Action, with modified management obligations.The Expanded Species/Geographic Area Alternative (Alternative C) would expand the area of coverage and the number of species covered under the Permits.The No Action, Proposed Action, and other action alternatives are analyzed in detail in the Draft EIS.

Other alternatives were considered by the Services but not carried forward for detailed analysis during preparation of this EIS.The alternatives considered but not carried forward were:(1) broad application of generic management prescriptions; (2) extensive permit coverage for terrestrial species (in addition to those considered in Alternative C above); and (3) alternative permit terms.These alternatives were not selected for detailed analysis because they do not meet the Services' purposes and needs or the applicant's objectives, or they are beyond the scope of the EIS.

The Services invite the public to comment on the Plan and Draft EIS during a 90-day public comment period.This notice is provided pursuant to section 10(c) of the ESA and the Services' regulations for implementing the National Environmental Policy Act (NEPA) of 1969 (40 CFR 1506.6).The Services are furnishing this notice in order to allow other agencies and the public an opportunity to review and comment on these documents.All comments received will become part of the public record and will be available for review pursuant to section 10(c) of the ESA.

Dated: July 30, 2002.
Phil Williams,
Chief, Endangered Species Division, Office of Protected Resources, National Marine Fisheries Service.

Dated: July 30, 2002.
D. Kenneth McDermond,
Deputy Manager, California/Nevada Operations Office, Fish and Wildlife Service, Region 1, Portland, Oregon

[FR Doc. 02-20739 Filed 8-15-02; 8:45 am]

BILLING CODE 3510-22-S